DEPARTMENT OF STATE

[Public Notice 11189]

Biennial Review Under the United States-Singapore Memorandum of Intent on Environmental Cooperation

ACTION: Notice of a biennial review under the United States-Singapore Memorandum of Intent on Environmental Cooperation, and request for comments.

SUMMARY: The U.S. Department of State is providing notice that the United States and Singapore intend to hold a biennial review under the Memorandum of Intent between the Government of the United States of America and the Government of the Republic of Singapore on Cooperation in Environmental Matters (MOI) on September 15, 2020. The purpose of the meeting is to review the results of environmental cooperation under the MOI guided by the 2018-2019 Plan of Action (POA). The United States and Singapore also expect to approve a new 2020-2021 POA.

The meeting's virtual public session will be held on September 15, 2020, from 8:15 p.m. to 9:00 p.m. (Eastern Daylight Time). The U.S. Department of State invites interested organizations and members of the public to attend the virtual public session, and to submit written comments or suggestions regarding implementation of the POA, and any related issues that should be discussed at the meeting. If you would like to attend the virtual public session, please notify Brian Bedell at the email address listed below under the heading ADDRESSES. Specific sign-in instructions will be provided several days in advance of the virtual public session to those who request to attend. Please include your full name and any organization or group you represent. In preparing comments, submitters are encouraged to refer to:

• 2018-2019 POA, https://www.state.gov/remarks-and-releases-bureau-of-oceans-and-international-environmental-and-scientific-affairs/2018-2019-plan-of-action-for-environmental-cooperation-under-the-u-s-singapore-memorandum-of-intent-on-environmental-cooperation.

• U.S.-Singapore MOI, https://2001-2009.state.gov/g/oes/rls/or/22193.htm.

DATES: The virtual public session of the Biennial Review will be held on September 15, 2020, from 8:15 p.m. to 9:00 p.m. (Eastern Daylight Time). We encourage that comments and suggestions be submitted in writing by September 14, 2020.

ADDRESSES: Requests for sign-in instructions to attend the virtual public session, as well as any comments or questions, should be submitted to: Brian Bedell, Office of Environmental Quality and Transboundary Issues, U.S. Department of State, by electronic mail to BedellBT@state.gov with the subject line “United States-Singapore Biennial Review.”

FOR FURTHER INFORMATION CONTACT: Brian Bedell, by electronic mail at BedellBT@state.gov.

SUPPLEMENTARY INFORMATION: The MOI was signed on June 13, 2003. Section 3 of the MOI calls for biennial meetings to review the status of environmental cooperation and update the POA, as appropriate. The 2020-2021 POA is the seventh between the United States and Singapore under the MOI.

Zachary A. Parker,
Director, Office of Directives Management, Department of State.

[FR Doc. 2020-18931 Filed 8-27-20; 8:45 am]

BILLING CODE 4710-09-P